DEPARTMENT OF COMMERCE

International Trade Administration

[A-570-847]

Persulfates from the People's Republic of China: Final Results of Antidumping Duty Administrative Review

AGENCY: Import Administration, International Trade Administration, Department of Commerce.

SUMMARY: On August 6, 2004, the Department of Commerce (the Department) published the preliminary results of the antidumping duty administrative review of persulfates from the People's Republic of China (the PRC). This review covers one exporter of the subject merchandise, Shanghai AJ Import & Export Corporation (Ai Jian). The period of review is July 1, 2002, through June 30, 2003. Based on our analysis of the comments received, we have made certain changes in the margin calculations. See the section entitled “Changes Since the Preliminary Results” listed below. The final weighted-average dumping margin is listed below in the section entitled “Final Results of the Review.”

EFFECTIVE DATE: February 9, 2005.

FOR FURTHER INFORMATION CONTACT: Tisha Loeper-Viti or Erol Yesin, AD/CVD Operations, Office 8, Import Administration, International Trade Administration, U.S. Department of Commerce, 14th Street and Constitution Avenue, NW, Washington, DC 20230; telephone: (202) 482-7425 and (202) 482-4037, respectively.

SUPPLEMENTARY INFORMATION:

Background

On August 6, 2004, the Department published the preliminary results of the 2002-2003 administrative review of the antidumping duty order on persulfates from the PRC. See Persulfates from the People's Republic of China: Preliminary Results of Antidumping Duty Administrative Review, 69 FR 47887 (August 6, 2004) (Preliminary Results). In these results the Department relied on the financial statement of a single Indian producer of identical merchandise to calculate surrogate financial ratios for Ai Jian. On October 29, 2004, we recalculated our preliminary results using the financial statements of two Indian producers of comparable merchandise to calculate surrogate financial ratios. For details, see Memorandum on Recalculation of Preliminary Results of Review from Jeffrey A. May, Deputy Assistant Secretary, to James J. Jochum, Assistant Secretary for Import Administration, dated October 29, 2004. We invited interested parties to comment on both the preliminary and recalculated preliminary results of review. The Department has conducted this administrative review in accordance with section 751 of the Tariff Act of 1930, as amended (the Act).

Scope of Review

The products covered by this order are persulfates, including ammonium, potassium, and sodium persulfates. The chemical formula for these persulfates are, respectively, (NH4)2S2O8, K2S2O8, and Na2S2O8. Potassium persulfates are currently classifiable under subheading 2833.40.10 of the Harmonized Tariff Schedule of the United States (HTSUS). Sodium persulfates are classifiable under HTSUS subheading 2833.40.20. Ammonium and other persulfates are classifiable under HTSUS subheadings 2833.40.50 and 2833.40.60. Although the HTSUS subheadings are provided for convenience and customs purposes, the written description of the scope of this order is dispositive.

Separate Rates

Ai Jian has requested a separate, company-specific antidumping duty rate. In our preliminary results, we found that Ai Jian had met the criteria for the application of a separate antidumping duty rate. See Preliminary Results, 69 FR at 47888. We have not received any other information since the preliminary results which would warrant reconsideration of our separate-rates determination with respect to this company. Therefore, we have assigned an individual dumping margin to Ai Jian for this administrative review.

Analysis of Comments Received

All issues raised in the case briefs by parties to this administrative review are addressed in the Issues and Decision Memorandum (Decision Memo) from Barbara E. Tillman, Acting Deputy Assistant Secretary for Import Administration, to Joseph A. Spetrini, Acting Assistant Secretary for Import Administration, dated February 2, 2005, which is adopted by this notice. A list of the issues which parties have raised and to which we have responded, all of which are in the Decision Memo, is attached to this notice as an Appendix. Parties can find a complete discussion of all issues raised in this review and the corresponding recommendations in this public memorandum, which is on file in the Central Records Unit in Room B-099 of the main Commerce Building. In addition, a complete version of the Decision Memo can be accessed directly on the Web at http://ia.ita.doc.gov/frn. The paper copy and electronic version of the Decision Memo are identical in content.

Changes from the Preliminary Results

For purposes of the final results, we have made certain changes in the margin calculation for Ai Jian. For a discussion of these changes, see the “Margin Calculations” section of the Decision Memo.

Final Results of Review

As a result of our review, we determine that the following weighted-average percentage margin exists for the period July 1, 2002, through June 30, 2003:

Manufacturer/exporter | Margin (percent)
Shanghai Ai Jian Import and Export Corporation | 3.30

Assessment Rates

The Department shall determine, and U.S. Customs and Border Protection (CBP) shall assess, antidumping duties on all appropriate entries. In accordance with 19 CFR 351.212(b)(1), we have calculated customer-specific assessment rates by dividing the dumping margin found on the subject merchandise examined by the entered value of such merchandise. Where the importer-specific assessment rate is above de minimis we will instruct CBP to assess antidumping duties on that importer's entries of subject merchandise. The Department will issue appropriate assessment instructions directly to the CBP within 15 days of publication of these final results of review.

Cash Deposit Requirements

The following deposit requirements will be effective for all shipments of the subject merchandise entered, or withdrawn from warehouse, for consumption on or after the publication date of these final results of administrative review, as provided by section 751(a) of the Act: (1) for Ai Jian, the cash-deposit rate will be 3.30 percent; (2) for previously reviewed or investigated companies not listed above that have separate rates, the cash-deposit rate will continue to be the company-specific rate published for the most recent period; (3) the cash-deposit rate for all other PRC exporters will be 119.02 percent, the PRC-wide rate established in the less-than-fair-value investigation; and (4) the cash-deposit rate for non-PRC exporters of subject merchandise from the PRC will be the rate applicable to the PRC supplier of that exporter. These deposit requirements shall remain in effect until publication of the final results of the next administrative review.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return/destruction or conversion to judicial protective order of proprietary information disclosed under APO in accordance with 19 CFR 351.305(a)(3). Failure to comply is a violation of the APO.

This determination is issued and published in accordance with sections 751(a)(1) and 777(i)(1) of the Act.

Dated: February 2, 2005.
Barbara E. Tillman,
Acting Assistant Secretary for Import Administration.

Appendix

Comments and Responses:

Comment 1: Use of financial statements from Asian Peroxides, Limited (APL) and National Peroxides Limited (NPL), producers of comparable merchandise

Comment 2: Use of financial statements of Gujarat and Calibre to calculate a surrogate SG&A ratio

Comment 3: Use of financial information from “potentially sick” companies

Comment 4: Categorization of “consumables consumed” in APL's financial statement

Comment 5: Offset of APL and NPL's SG&A expenses with interest and dividend income

Comment 6: SG&A labor

Comment 7: Use of NPL's most contemporaneous financial statement

Comment 8: Affiliation between Chinese exporter and U.S. customer

Comment 9: Surrogate labor rate

Comment 10: seb APPENDTreatment of non-dumped sales

[FR Doc. E5-537 Filed 2-8-05; 8:45 am]

BILLING CODE 3510-DS-S